DEPARTMENT OF LABOR

Employment and Training Administration

[NAFTA-4357]

Oxford Automotive, Inc., Argos, IN; Notice of Revised Determination On Remand

The United States Court of International Trade (USCIT) remanded to the Department of Labor for further consideration and investigation of the negative determination on reconsideration on remand in Former Employees of Oxford Automotive U.A.W. Local 2088 v. U.S. Secretary of Labor (Court No. 01-00453).

The Department's denial of NAFTA-Transitional Adjustment Assistance for the workers of Oxford Automotive, Inc., Argos, Indiana (NAFTA-4357) was issued on January 24, 2001 and published in the Federal Register on February 20, 2001 (66 FR 10916). The initial investigation concluded that there was no shift of production to Canada or Mexico and that imports from Canada or Mexico did not contribute importantly to workers' separations.

On April 30, 2001, the Department issued a Notice of Negative Determination Regarding Application for Reconsideration for NAFTA-4357 and published the determination in the Federal Register on May 9, 2001 (66 FR 23732).

The petitioners alleged in the request for reconsideration that production equipment (180″ press line and two single pot spot welders) was sent to an affiliated plant located in Mexico. Information provided by the company at that time indicated that while equipment, absent its use, was sent to Mexico, the equipment was not used and there was no production shift. The Department determined that the shift of production equipment, absent its use, was an insufficient basis for certification.

The petitioners appealed to the U.S. Court of International Trade, and on voluntary remand, the Department requested more information from the company.

In the remand investigation, the Department requested information regarding company imports of side panels. The Department determined that there was no basis to reverse the negative reconsideration determination.

In a second voluntary remand investigation, the Department conducted a survey of the subject company's major customer and asked the company to clarify the situation regarding the shift of equipment to Mexico and alleged shift of production to Mexico. The Department determined that there was no increased customer reliance upon import purchases and no shift of production to Mexico. Therefore, the Department did not reverse the negative remand determination.

On the current remand, the Department followed the Court's guidance in conducting its investigation, obtaining new and additional information, as well as clarification, from the company regarding the alleged production shifts to Mexico. Upon careful review of the new information, it has been determined that a significant portion of production of like and directly competitive products was shifted from the subject facility to Mexico during the relevant period.

Conclusion

After careful review of the additional facts obtained on the current remand, I conclude that there was a shift of production to Mexico of articles like or indirectly competitive with those produced at the subject facility. In accordance with the provisions of the Trade Act, I make the following certification:

All workers of Oxford Automotive, Inc., Argos, Indiana who became totally or partially separated from employment on or after December 4, 1999, through two years from the issuance of this revised determination, are eligible to apply for NAFTA-TAA under section 250 of the Trade Act of 1974.

Signed at Washington, DC, this 10th day of November, 2003.
Linda G. Poole,
Director, Division of Trade Adjustment Assistance.

[FR Doc. 03-29541 Filed 11-25-03; 8:45 am]

BILLING CODE 4510-30-P